DEPARTMENT OF HOMELAND SECURITY

Federal Emergency Management Agency

Agency Information Collection Activities: Submission for OMB Review; Comment Request

AGENCY: Federal Emergency Management Agency, Emergency Preparedness and Response Directorate, Department of Homeland Security.

ACTION: Notice and request for comments.

SUMMARY: The Federal Emergency Management Agency has submitted the following proposed information collection to the Office of Management and Budget for review and clearance in accordance with the requirements of the Paperwork Reduction Act of 1995 (44 U.S.C. 3507).

Title: Disaster Assistance Registration.

Type of Information Collection: Revision of a currently approved collection.

OMB Number: 1660-0002.

Abstract: The information serves as the application for FEMA's Individuals and Households Program with regard to Housing Assistance and Other Needs Assistance and is relayed to other Federal and State agencies administering disaster relief programs appropriate to the applicants needs. Without this information, eligibility for disaster assistance cannot be determined. The information is obtained by telephone calls to the Teleregistration Center or from a face-to-face interview. Applicants are provided a statement regarding the privacy act and they sign a statement certifying the accuracy of their information.

Affected Public: Individuals or Households, Federal Government, State, Local or Tribal Government, Business or Other For-Profit, Not-For-Profit Institutions, Farms.

Number of Respondents: 482,584.

Estimated Time per Respondent: FEMA Forms 90-69 (English) & 90-69A (Spanish), Disaster Assistance Registration, 19 minutes; FEMA Forms 90-69B (English) & 90-69C (Spanish), Declaration and Release Form, 2 minutes.

Estimated Total Annual Burden Hours: 163,113.

Frequency of Response: On Occasion.

Comments: Interested persons are invited to submit written comments on the proposed information collection to the Office of Management and Budget, Office of Information and Regulatory Affairs, Attention: Desk Officer for the Emergency Preparedness and Response Directorate/Federal Emergency Management Agency, Washington, DC 20503, within 30 days of the date of this notice.

FOR FURTHER INFORMATION CONTACT: Requests for additional information or copies of the information collection should be made to Muriel B. Anderson, Chief, Records Management Branch, Information Resources Management Division, Information Technology Services Directorate, Federal Emergency Management Agency, Emergency Preparedness and Response Directorate, Department of Homeland Security, 500 C Street, SW., Room 316, Washington, DC 20472, facsimile number (202) 646-3347, or email address InformationCollections@fema.gov.

Dated: July 8, 2003.
Edward W. Kernan,
Division Director, Information Resources Management Division, Information Technology Services Directorate.

[FR Doc. 03-17736 Filed 7-11-03; 8:45 am]

BILLING CODE 6718-01-P